DEPARTMENT OF THE INTERIOR

Bureau of Land Management

[LLCON06000-L17110000-XX0000]

Notice of Resource Advisory Council Meeting for the Dominguez-Escalante Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Dominguez-Escalante Advisory Council (Council) will meet as indicated below.

DATES: The meeting will be held on January 5, 2011, from 1 p.m. to 5 p.m.

ADDRESSES: Bill Heddles Recreation Center, 530 Gunnison River Drive, Delta, CO 81416.

FOR FURTHER INFORMATION CONTACT: Katie Stevens, Advisory Council Designated Federal Official, 2815 H Road, Grand Junction, CO 81506. Phone: (970) 244-3049. E-mail: kasteven@blm.gov.

SUPPLEMENTARY INFORMATION: The 10-member Council advises the Secretary of the Interior, through the BLM, on a variety of planning and management issues associated with the resource management planning process for the Dominguez-Escalante National Conservation Area and Dominguez Canyon Wilderness.

Topics of discussion during Dominguez-Escalante National Conservation Area Advisory Council meeting may include informational presentations from various resource specialists working on the resource management plan, as well as Council working group reports relating to the following topics: Recreation, fire management, land-use planning process descriptions, invasive species management, travel management, wilderness, land exchange criteria, cultural resource management, and other resource management topics of interest to the Council raised during the planning process.

Future meetings in 2011 will be scheduled at this meeting. These meetings are anticipated to occur monthly, and may occur as frequently as every two weeks during intensive phases of the planning process. Dates, times and agendas for these additional meetings will be announced through local media and on the BLM's Web site for the Dominguez-Escalante planning effort, http://www.blm.gov/co/st/en/nca/denca/denca_rmp.html.

These meetings are open to the public. The public may present written comments to the Council. Each formal Council meeting will also have 30 minutes at the end of the meeting allocated for hearing public comments. Depending on the number of persons wishing to comment and time available, the time for individual oral comments may be limited.

Helen M. Hankins,
State Director.

[FR Doc. 2010-31989 Filed 12-20-10; 8:45 am]

BILLING CODE 4310-JB-P